ENVIRONMENTAL PROTECTION AGENCY

[FRL OP-OFA-103]

Environmental Impact Statements; Notice of Availability

Responsible Agency: Office of Federal Activities, General Information 202-564-5632 or https://www.epa.gov/nepa.

Weekly receipt of Environmental Impact Statements (EIS)

Filed December 18, 2023 10 a.m. EST Through December 22, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230182, Final, BLM, PRO, Programmatic Environmental Impact Statement Addressing Vegetation Treatments Using Herbicides, Review Period Ends: 01/29/2024, Contact: Seth Flanigan 208-373-4094.

Dated: December 22, 2023.
Julie Smith,
Acting Director, NEPA Compliance Division, Office of Federal Activities.

[FR Doc. 2023-28749 Filed 12-28-23; 8:45 am]

BILLING CODE 6560-50-P